DEPARTMENT OF ENERGY

Federal Energy Regulatory Commission

[Docket Nos. RP02-332-000]

Petal Gas Storage, L.L.C.; Notice of Filing

May 7, 2002.

Take notice that on May 1, 2002, Petal Gas Storage, L.L.C. (Petal), Nine Greenway Plaza, Houston, Texas 77046, tendered for filing an original and five (5) copies of the attached Tariff Sheets listed in Appendix A hereto. Petal requests that these sheets be made effective June 1, 2002.

Petal states that the tariff sheets are being filed to implement an AVS Rate Schedule. The AVS service proposes an interruptible advancing (lending) service under Rate Schedule AVS, whereby Petal would essentially loan gas to its customers requesting the service. Petal further states that the AVS service proposed here is identical to that proposed in its Order No. 637 compliance docket, RP00-491, as revised by its March 1, 2002, filing in Docket Nos. RP02-188, CP01-69 et al., and RP00-491.

Petal states that copies of the filing have been mailed to all affected customers and state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11860 Filed 5-10-02; 8:45 am]

BILLING CODE 6717-01-P